DEPARTMENT OF INTERIOR

National Park Service

[NPS-SERO-BICY-17490; PPSESEROC3, PMP00UP05.YP0000]

Determination of Eligibility for Consideration as Wilderness Areas, Intent To Prepare Wilderness Study, Big Cypress National Preserve

AGENCY: National Park Service, Interior.

ACTION: Notice of determination of wilderness eligibility for lands in Big Cypress National Preserve and intent to expand the scope of the Backcountry Access Plan (BAP)/Environmental Impact Statement (EIS) to include a wilderness study.

SUMMARY: The National Park Service (NPS) has completed a Wilderness Eligibility Assessment to determine if lands within the original 1974 legislated boundary of Big Cypress National Preserve (Preserve) meet criteria indicating eligibility for preservation as wilderness. Based on the assessment, the NPS has concluded that of the 557,065 acres assessed, 188,323 acres meet the eligibility criteria.

In accordance with NPS Management Policies 2006, Section 6.2.2, the scope of the BAP/EIS currently being prepared for the Preserve will be expanded to include a wilderness study to determine if any portions of the Preserve should be recommended for inclusion in the National Wilderness Preservation System as defined in the Wilderness Act of 1964. A notice of intent to prepare an EIS with the BAP was published in the Federal Register of March 11, 2014. This additional notice is being published in accordance with the Council on Environmental Quality's regulations implementing the National Environmental Policy Act of 1969 (NEPA), specifically 40 CFR 1501.7.

The NPS will conduct public meetings in the local area to receive further input from interested parties on issues, concerns, and suggestions pertinent to backcountry use and access and wilderness designation within the Preserve. The comment period will be announced through local media outlets, at the meetings, and on the backcountry access plan Web site at http://parkplanning.nps.gov/bicy.

DATES: The date, time, and location of public meetings will be announced through the NPS Planning, Environment, and Public Comment (PEPC) Web site http://parkplanning.nps.gov/bicy, the Preserve Web site, and in local media outlets.

ADDRESSES: Maps and descriptions of eligible lands are on file at Big Cypress National Preserve Headquarters, 33100 Tamiami Trail East, Ochopee, Florida 34141-1000 and available on the backcountry access plan Web site at http://parkplanning.nps.gov/bicy.

FOR FURTHER INFORMATION CONTACT: Requests for further information should be directed to Big Cypress National Preserve Chief of Interpretation Bob DeGross by phone at 239-695-1107, via email at Bob_DeGross@nps.gov, or by mail at Big Cypress National Preserve, 33100 Tamiami Trail, East Ochopee, Florida 34141.

SUPPLEMENTARY INFORMATION: The Preserve staff reviewed the Primary Eligibility Criteria in Section 6.2.1.1 of the NPS Management Policies 2006 to evaluate the Preserve's wilderness eligibility. This wilderness eligibility assessment was prepared in support of the Preserve's Backcountry Access Plan/Environmental Impact Statement. More detailed analysis and intensive review of the eligibility of these lands will be carried out through a formal wilderness study in the context of the BAP/EIS. According to NPS Director's Order 41, the completed wilderness study may result in revised eligibility determinations for lands within the original Preserve as well as the identification of a need to re-assess adjacent areas added to the Preserve in 1988.

Public notices announcing the Preserve's intention to conduct this eligibility assessment were published in the Federal Register on December 15, 2014, and through a press release sent to local media outlets on September 12, 2014.

Dated: June 29, 2015.
Shawn T. Benge,
Deputy Regional Director, Southeast Region.

[FR Doc. 2015-16481 Filed 7-2-15; 8:45 am]

BILLING CODE P